DEPARTMENT OF COMMERCE

National Oceanic and Atmospheric Administration

RIN 0648-XG150

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application submitted by the Gulf of Maine Research Institute contains all of the required information and warrants further consideration. The exempted fishing permit would allow the use of electronic monitoring to support testing a maximized retention model in the groundfish fishery.

Regulations under the Magnuson-Stevens Fishery Conservation and Management Act require publication of this notification to provide interested parties the opportunity to comment on applications for proposed Exempted Fishing Permits.

DATES: Comments must be received on or before April 27, 2018.

ADDRESSES: You may submit written comments by either of the following methods:

• Email: nmfs.gar.efp@noaa.gov. Include in the subject line “GMRI MREM EFP.”

• Mail: Michael Pentony, Regional Administrator, NMFS, Greater Atlantic Regional Fisheries Office, 55 Great Republic Drive, Gloucester, MA 01930. Mark the outside of the envelope “GMRI MREM EFP.”

FOR FURTHER INFORMATION CONTACT: Claire Fitz-Gerald, Fishery Management Specialist, 978-281-9255.

SUPPLEMENTARY INFORMATION: Groundfish sectors are required to implement and fund an at-sea monitoring (ASM) program. A sector is allowed to use electronic monitoring (EM) to satisfy this monitoring requirement, provided that NMFS deems the technology sufficient for catch monitoring. NMFS has yet to approve EM as an alternative to ASM, but is working with industry and other stakeholders to develop EM for catch monitoring in the groundfish fishery. For the groundfish fishery, the program designs currently being considered are the “audit model” and the “maximized retention model.” The audit model would use EM to verify discards reported by a captain on a vessel trip report. Under the maximized retention electronic monitoring (MREM) model, vessels would be required to retain most fish species (e.g., allocated groundfish stocks), and EM would be used to ensure compliance with discarding regulations.

GMRI submitted an exempted fishing permit (EFP) application to test a maximized retention electronic monitoring (MREM) model and an accompanying dockside monitoring (DSM) program to monitor high-volume bottom-trawl vessels in the groundfish fleet. Vessels would be outfitted with EM systems (cameras and gear sensors), and the cameras would be on for 100 percent of groundfish trips. The EFP would require participating vessels to retain and land all catch of allocated groundfish, including undersized fish that they would normally be required to discard. All other species would be handled per normal commercial fishing operations. An EM service provider would review 100 percent of the video footage to verify that the vessels did not discard allocated groundfish. NMFS Northeast Fisheries Science Center staff would conduct a secondary review of 100 percent of the video footage for all trips.

All catch would be assessed shoreside via an accompanying DSM program. The DSM program would have three primary objectives: (1) Biological sampling; (2) verification of dealer-reported landings, and; (3) fish hold inspections. Vessels would be authorized to sell catch, including undersized fish, to a limited number of dealers. The vessel and dealer would work with the Center to ensure that a Federal employee or contract staff is present to observe 100 percent of offloads for this project. The sampler would verify dealer landings and collect biosamples, including length-frequency data on a subset of fish in each market category. The Northeast Region Office of Law Enforcement would randomly inspect fish holds on approximately 10 percent of EFP trips.

Because vessels would be fully monitored, GMRI also requested exemptions to incentivize participation in the project and increase fishing opportunities for healthy stocks. The EFP would allow vessels to use the codend configuration used in the Canadian haddock fishery (5.1-inch (13.0-cm) square mesh codend) and/or the codend configuration tested in the REDNET project (4.5-inch (11.4-cm) diamond mesh codend). This exemption is intended to improve size selectivity and increase catch of target species, while avoiding groundfish species of concern.

The applicant also requested access to portions of Closed Area II. Vessels would be allowed to fish in the non-essential fish habitat portions of Closed Areas I and II from May 1 through February 15. Vessels would not be allowed to fish in the area from February 16 through April 30 as fishing activity during this time may negatively affect Georges Bank cod and haddock spawning. The applicant states that, due to the distribution and movement of groundfish stocks, this exemption would improve vessels' ability to selectively target healthy groundfish stocks.

The EFP application also requested an exemption from sector third-party ASM requirements. We do not intend to grant this requested exemption. Participating vessels would still be required to discard non-allocated groundfish stocks (e.g. ocean pout, wolffish, windowpane flounder) and adhere to possession limits for certain groundfish stocks (e.g. halibut) and non-groundfish species ((e.g. monkfish, dogfish, skate). NMFS applies assumed discard rates to all trips to estimate catch for non-allocated groundfish and non-groundfish species. These discard rates are calculated from the data that at-sea monitors collect. Therefore, continued ASM coverage for participating vessels is necessary to collect catch and discard information on a subset of EFP trips to derive assumed discard rate values. These vessels would carry ASM coverage at the standard level required for sectors, which is 15 percent for the 2018 fishing year. Northeast Fishery Observer Program observers would not be deployed on these vessels because their fishing activity is not consistent with the Standardized Bycatch Reporting Methodology sampling design.

This EFP would cover fishing trips that occur in the 2018 and 2019 fishing years. NMFS would authorize a maximum of eight bottom-trawl vessels to participate. All catch of groundfish stocks allocated to sectors would be deducted from the appropriate sector's allocation for each groundfish stock. Because this is a maximized retention program, vessels would not be permitted to discard legal unmarketable fish for allocated groundfish stocks, regardless of whether the vessel holds a sector exemption to do so through its operations plan.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 9, 2018.
Jennifer M. Wallace,
Acting Director, Office of Sustainable Fisheries, National Marine Fisheries Service.

[FR Doc. 2018-07583 Filed 4-11-18; 8:45 am]

BILLING CODE 3510-22-P